DEPARTMENT OF DEFENSE

Office of the Secretary

[Docket ID; DoD-2012-OS-0113]

Privacy Act of 1974; System of Records

AGENCY: Defense Intelligence Agency, DoD.

ACTION: Notice to alter a System of Records.

SUMMARY: The Defense Intelligence Agency is proposing to alter a system to its existing inventory of records systems subject to the Privacy Act of 1974 (5 U.S.C. 552a), as amended.

DATES: This proposed action will be effective on October 18, 2012 unless comments are received which result in a contrary determination. Comments will be accepted on or before October 17, 2012.

ADDRESSES: You may submit comments, identified by docket number and title, by any of the following methods:

• Federal Rulemaking Portal: http://www.regulations.gov.

Follow the instructions for submitting comments.

• Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974, (5 U.S.C. 552a), as amended, have been published in the Federal Register and are available from the address in FOR FURTHER INFORMATION CONTACT. The proposed system report, as required by 5 U.S.C. 552a(r) of the Privacy Act of 1974, as amended, was submitted on June 18, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 11, 2012.
Aaron Siegel,
Alternate OSD Federal Register Liaison Officer, Department of Defense.

LDIA 0209

Litigation and Disposition Documentation (June 5, 2006, 71 FR 32323).

Changes:

* * * * *

System name:

Delete entry and replace with “Litigation Case Files”.

System location:

Delete entry and replace with “Defense Intelligence Agency, 200 MacDill Blvd., Washington, DC 20340-0001.”

Categories of individuals covered by the system:

Delete entry and replace with “Federal employees, military service members, contractors and their affiliates and persons not associated with the Federal Government who are litigants or claimants; to include their representatives.”

Categories of records in the system:

Delete entry and replace with “Individuals name, Social Security Number (SSN), work location, personal contact information such as name, telephone number, home address, and email address. Place, and date of birth, financial data, citizenship, security clearance records, and employment records. Records include case files documenting the nature, course, and outcome of litigation involving the agency. These types of documents may include court pleadings and orders, opinions, depositions, transcripts, affidavits, exhibits, and documents related to discovery and evidence.”

Authority for maintenance of the system:

Delete and replace with “28 U.S.C. 1346(b); Federal Tort Claims Act, and E.O. 9397 (SSN), as amended.”

Purpose(s):

Delete entry and replace with “The system will manage files pertaining to litigation concerning agency civilian, military and contractor personnel as well as persons not associated with the Federal Government who are litigants or claimants.

Information is used to meet regulatory requirements and to support various legal-related activities associated with the Defense Intelligence Agency, the Department of Justice, the Office of Personnel Management and the Military Services or adjudicative agencies of the U.S. Government as may be necessary or required in the disposition of an individual case.”

* * * * *

Storage:

Delete entry and replace with “Paper and electronic storage media.”

Retrievability:

Delete entry and replace with “By last name.”

Safeguards:

Delete entry and replace with “Records are stored in office buildings protected by guards, controlled screenings, use of visitor registers, electronic access, and/or locks. Access to records is limited to individuals who are properly screened, and cleared on a need-to-know basis in the performance of their duties. Passwords and User IDs are used to control access to the system data, and procedures are in place to deter and detect browsing and unauthorized access. Physical and electronic access are limited to persons responsible for servicing and authorized to use the system.”

Retention and disposal:

Delete and replace with “Inactive Litigation: Judicially contested Freedom of Information Act (FOIA) and Privacy Act files transfer to the Washington National Records Center (WNRC) and destroy 10 years after the date of transfer. All other inactive ligation case files: Permanent; disposition pending approval by the National Archives and Records Administration.”

System manager(s) and address:

Delete entry and replace with “Executive Assistant, Office of the General Counsel, Defense Intelligence Agency, 200 Mac Dill Blvd., Washington, DC 20340-0001.”

Notification procedure:

Delete entry and replace with “Individuals seeking to determine whether information about themselves is contained in this system of records should address written inquiries to the DIA Freedom of Information Act Office (DAN-1A), Defense Intelligence Agency, 200 MacDill Blvd., Washington, DC 20340-0001.

Request should contain the individual's full name, current address, and telephone number.”

Record access procedures:

Delete entry and replace with “Individuals seeking access to information about themselves contained in this system of records, should address written inquiries to the DIA Freedom of Information Act Office, Defense Intelligence Agency (DAN-1A), 200 MacDill Blvd., Washington, DC 20340-0001.

Request should contain the individual's full name, current address, and telephone number.”

Contesting record procedures:

Delete entry and replace with “DIA's rules for accessing records, for contesting contents and appealing initial agency determinations are published in DIA Instruction 5400.001 “Defense Intelligence Agency Privacy Program”;or may be obtained from the system manage.”

Record source categories:

Delete entry and replace with “Agency and other government officials, corporations, individuals and public records.”

Exemptions claimed for the system:

Delete entry and replace with “Investigatory material compiled for law enforcement purposes, other than material within the scope of subsection 5 U.S.C. 552a (j)(2), may be exempt pursuant to 5 U.S.C 552 (k)(2). However, if an individual is denied any right, privilege, or benefit for which he would otherwise be entitled by Federal law or which he would otherwise be eligible, as a result of maintenance of the information, the individual will be provided access to the information except to the extent that disclosure would reveal the identity of a confidential source. This exemption provides limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

Exempt materials from other systems of records may in turn become part of the case records in this system. To the extent that copies of exempt records from those ``other'' systems of records are entered into this case record, the Defense Intelligence Agency hereby claims the same exemptions for the records from those ``other'' systems that are entered into this system, as claimed for the original primary systems of records, which they are a part.

An exemption rule for this system has been promulgated in accordance with the requirements of 5 U.S.C. 553(b)(1), (2) and (3) (c) and (e) and it published at 32 CFR part 319.”

[FR Doc. 2012-22743 Filed 9-14-12; 8:45 am]

BILLING CODE 5001-06-P